DEPARTMENT OF EDUCATION

National Assessment Governing Board Quarterly Board Meeting

AGENCY: National Assessment Governing Board, U.S. Department of Education.

ACTION: Announcement of open and closed meetings.

SUMMARY: This notice sets forth the agenda for the November 19-21, 2015 Quarterly Meeting of the National Assessment Governing Board (hereafter referred to as Governing Board). This notice provides information to members of the public who may be interested in attending the meeting or providing written comments on the meeting. The notice of this meeting is required under section 10(a)(2) of the Federal Advisory Committee Act (FACA).

DATES: The Quarterly Board meeting will be held on the following dates:

• November 19, 2015 from 3:00 p.m. to 6:00 p.m.

• November 20, 2015 from 8:30 a.m. to 5:00 p.m.

• November 21, 2015 from 7:30 a.m. to 12:00 p.m.

ADDRESSES: Westin Crystal City, 1800 Jefferson Davis Highway, Arlington, VA 22202.

FOR FURTHER INFORMATION CONTACT: Munira Mwalimu, Executive Officer, 800 North Capitol Street NW., Suite 825, Washington, DC 20002, telephone: (202) 357-6938, fax: (202) 357-6945.

SUPPLEMENTARY INFORMATION:

Statutory Authority and Function: The National Assessment Governing Board is established under Title III—National Assessment of Educational Progress Authorization Act, Public Law 107-279. Information on the Board and its work can be found at www.nagb.gov.

The Board is established to formulate policy for the National Assessment of Educational Progress (NAEP). The Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

November 19-21, 2015 Committee Meetings

The Board's standing committees will meet to conduct regularly scheduled work, based on agenda items planned for this quarterly Board meeting, and follow-up items as reported in the Board's committee meeting minutes available at http://nagb.gov/what-we-do/board-committee-reports-and-agendas.html.

Detailed Meeting Agenda: November 19-21, 2015

November 19: Informational Briefing and Executive Committee Meeting

What Gallup is Learning about Education: Open Session: 3:00 p.m.-4:00 p.m.

Executive Committee: Open Session: 4:30 p.m.-5:15 p.m.; Closed Session: 5:15 p.m.-6:00 p.m.

November 20: Full Board Meeting

Full Board: Open Session: 8:30 a.m.-9:45 a.m.; Closed Session: 12:50 p.m.-2:20 p.m.; Open Session: 2:20 p.m.-5:00 p.m.

November 20: Committee Meetings

Reporting and Dissemination Committee (R&D) and Assessment

Development Committee (ADC): Joint Closed Session: 10:00 a.m.-11:00 a.m.

ADC: Open Session: 11:00 a.m.-11:30 a.m.; Closed Session: 11:30 a.m.-12:30 p.m.

R&D: Open Session: 11:00 a.m.-12:30 p.m.

Committee on Standards, Design and Methodology (COSDAM): Open Session: 10:00 a.m.-10:05 a.m.; Closed Session: 10:05 a.m.-12:10 p.m.; Open Session: 12:10 a.m.-12:30 p.m.

November 21: Full Board and Committee Meetings

Nominations Committee: Closed Session: 7:30 a.m.-8:15 a.m.

Full Board: Closed Session: 8:30 a.m.-9:35 a.m.; Open Session: 10:00 a.m.-12:00 p.m.

On November 19, 2015, from 3:00 p.m. to 4:00 p.m., the Board will receive a briefing in open session on What Gallup is Learning About Education. Thereafter, the Executive Committee will convene in open session from 4:30 p.m. to 5:15 p.m., and in closed session from 5:15 p.m. to 6:00 p.m.

During the closed session, the Executive Committee will receive and discuss cost estimates and implications for implementing NAEP's Assessment Schedule for 2014-2024. This meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of section 552b of Title 5 U.S.C.

On November 20, 2015, the Full Board will meet in open session from 8:30 a.m. to 9:45 a.m. The Board will review and approve the November 19-21, 2015 Board meeting agenda and meeting minutes from the August 2015 Quarterly Board meeting. This session will be followed by the Chairman's introduction of new Board members and remarks from new members. Thereafter, the Executive Director of the Governing Board, Bill Bushaw, will provide his report, followed by an update on the work of IES provided by Ruth Neild, Deputy Director for Policy and Research, IES. The NCES update will be provided by the Acting Commissioner of the NCES, Peggy Carr. The Board will recess for Committee meetings at 9:45 a.m. scheduled from 10:00 a.m. to 12:30 p.m.

The Assessment Development Committee (ADC) and the Reporting and Dissemination (R&D) Committee will meet in a joint closed session from 10:00 a.m. to 11:00 a.m. Thereafter R&D Committee will meet in open session from 11:00 a.m. to 12:30 p.m. The ADC will meet in open session from 11:00 a.m. to 11:30 a.m. and in closed session from 11:30 a.m. to 12:30 p.m. The purpose of the joint closed session is to review the embargoed reporting Web site content for the 2014 grade 8 Technology and Engineering Literacy (TEL) Report Card. This meeting is being conducted in closed session because the TEL results are embargoed and have not been released to the public. Public disclosure of the secure data would significantly impede implementation of the NAEP assessment program if conducted in open session. Such matters are protected by exemption 9(B) of section 552b of Title 5 U.S.C.

The ADC will meet in open session from 11:00 a.m. to 11:30 a.m. to receive a briefing on NAEP digital-based assessments. From 11:30 a.m. to 12:30 p.m. the ADC will meet in closed session to receive a briefing on in-depth analyses of the 2015 Reading and Mathematics results at grades 4 and 8. This meeting must be closed because the briefing will include secure NAEP items from reading and math test results at grades 4 and 8. Public disclosure of the secure data would significantly impede implementation of the NAEP assessment program if conducted in open session. Such matters are protected by exemption 9(B) of section 552b of Title 5 U.S.C.

R&D will meet in open session from 11:00 a.m. to 12:30 p.m. to discuss NAEP Report Card releases and the Governing Board's ongoing work on reporting and dissemination.

The Committee on Standards, Design and Methodology (COSDAM) will meet in open session from 10:00 a.m. to 10:05 a.m. to introduce new Committee members and review the Committee meeting agenda. The Committee will meet in closed session from 10:05 a.m. to 12:10 p.m. and thereafter in open session from 12:10 p.m. to 12:30 p.m.

During the first part of the closed session COSDAM will discuss information regarding analyses of the 2015 bridge studies for paper-and-pencil and digital-based assessments, and discuss secure NAEP Reading and Mathematics data. This part of the meeting must be conducted in closed session because the analysis involves the use of secure data for the NAEP Reading and Mathematics assessments on digital-based platforms. Public disclosure of secure data would significantly impede implementation of the NAEP assessment program if conducted in open session. Such matters are protected by exemption 9(B) of section 552b of Title 5 U.S.C.

During the second part of the closed session, COSDAM will discuss the proposed 2014 NAEP Technology and Engineering Literacy (TEL) achievement levels for grade 8, which includes secure NAEP TEL data. This part of the meeting must be conducted in closed session because the analysis involves the use of secure data for the NAEP TEL assessment. Public disclosure of secure data would significantly impede implementation of the NAEP assessment program if conducted in open session. Such matters are protected by exemption 9(B) of section 552b of Title 5 U.S.C. COSDAM will meet in open session from 12:10 p.m. to 12:30 p.m. to take Committee action on achievement levels and discuss ongoing Committee work.

Following the Committee meetings, the Board will convene in closed session on November 20, 2015 from 12:50 p.m. to 2:20 p.m. to discuss the proposed 2014 NAEP Technology and Engineering Literacy (TEL) achievement levels for grade 8, which includes secure NAEP TEL data. This part of the meeting must be conducted in closed session because the analysis involves the use of secure data for the NAEP TEL assessment. Public disclosure of secure data would significantly impede implementation of the NAEP assessment program if conducted in open session. Such matters are protected by exemption 9(B) of section 552b of Title 5 U.S.C.

Thereafter, the Board will meet in open session from 2:45 p.m. to 5:00 p.m. From 2:45 p.m. to 3:30 p.m., the Board will meet in open session to receive a briefing on the 2015 Trial Urban District Assessment (TUDA) Report Card in English and Mathematics. From 3:30 p.m. to 4:15 p.m., the Board will receive the annual briefing from the Council of Chief State School Officers and Governing Board Policy Task Force Vice Chair and Assistant Superintendent form the Virginia Department of Education, Shelly Loving-Ryder. From 4:15 p.m. to 4:30 p.m. the Governing Board members will be provided with the annual ethics briefing from Office of General Counsel staff.

The November 20, 2015 session of the Board meeting will adjourn at 5:00 p.m.

On November 21, 2015, the Nominations Committee will meet in closed session from 7:30 a.m. to 8:15 a.m. to discuss the final slate of candidates for seven Board vacancies for terms beginning on October 1, 2016. The Committee's discussions pertain solely to internal personnel rules and practices of an agency and information of a personal nature where disclosure would constitute an unwarranted invasion of personal privacy. As such, the discussions are protected by exemptions 2 and 6 of section 552b(c) of Title 5 of the United States Code. Following the closed session, the Committee will meet in open session from 8:15 a.m. to 8:20 a.m. to discuss and take action on the slate of finalists in the Chief State School Officer category for 2015. The final slate of candidates for this open position will be brought before the Board for discussion and action on November 21, 2015.

The full Board will convene in closed session on Saturday, November 21, 2015 from 8:30 a.m. to 8:35 a.m. The purpose of the closed session is to receive and discuss the slate of finalists being recommended for action by the Nominations Committee for the Chief State School Officer position, to be appointed by the Secretary of Education in 2016. At 8:35 a.m., the Board will take action in open session on the slate of Chief State School Officer finalists for the vacancy.

The Board will meet in closed session from 8:45 a.m. to 9:35 a.m. to receive an update on the NAEP budget and planned changes to the NAEP Assessment Schedule. During the closed session, the Board will receive and discuss cost estimates and implications for implementing NAEP's Assessment Schedule for 2014-2024. This meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of section 552b of Title 5 U.S.C.

The Board will take action on the NAEP Assessment Schedule from 9:35 a.m. to 9:45 a.m. in open session. Thereafter, from 10:00 a.m. to 11:00 a.m. the Board will receive updates on NCES' Future of NAEP Activities and the Governing Board's Strategic Planning Initiative.

From 11:30 a.m. to 12:00 p.m. the Board will receive reports from the standing committees and take action proposed by the Committee on Standards, Design and Methodology on the TEL Achievement Levels at Grade 8. The November 21, 2015 meeting is scheduled to adjourn at 12:00 p.m.

Access to Records of the Meeting: Pursuant to FACA requirements, the public may also inspect the meeting materials at www.nagb.gov on Thursday, November 19, 2015 by 7:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Pub. L. 107-279, Title III—National Assessment of Educational Progress section 301.

Dated: October 27, 2015.
William J. Bushaw,
Executive Director, National Assessment Governing Board (NAGB), U.S. Department of Education.

[FR Doc. 2015-27720 Filed 10-29-15; 8:45 am]

BILLING CODE P